DEPARTMENT OF COMMERCE

National Oceanic and Atmospheric Administration

50 CFR Part 635

[I.D. 110800C]

Atlantic Highly Migratory Species Fisheries; Technical Gear Workshop

AGENCY: National Marine Fisheries Service (NMFS), National Oceanic and Atmospheric Administration (NOAA), Commerce.

ACTION: Notification of public meeting.

SUMMARY: NMFS announces a public workshop to discuss potential gear modifications for the Atlantic pelagic longline fishery aimed at reducing the incidental take and mortality of threatened and endangered sea turtles. The workshop is intended to synthesize available information and discuss research objectives. A report of the workshop will be made available to interested parties.

DATES: The workshop will take place December 12, 2000, from 1 p.m. to 6 p.m. and December 13, 2000, from 8:30 a.m. to 3:30 p.m. Notice of attending the meeting should be provided by December 5, 2000.

ADDRESSES: The location for the workshop is: National Marine Fisheries Service, Building 4 - Science Center, 1305 East-West Highway, Silver Spring, MD 20910.

FOR FURTHER INFORMATION CONTACT: Margo Schulze-Haugen or Tyson Kade at (301) 713-2347. Also, if you are planning to attend the workshop, please contact the above named individuals by December 5, 2000. Attendees will be provided briefing materials prior to the meeting.

SUPPLEMENTARY INFORMATION: A Biological Opinion (BO) issued on June 30, 2000, by NMFS’ Office of Protected Resources found that the continued operation of the Atlantic pelagic longline fishery is likely to jeopardize the continued existence of loggerhead and leatherback sea turtles. Since the BO was issued, NMFS has concluded that further analyses of observer data and additional population modeling of loggerhead sea turtles are needed to determine more precisely the impact of the pelagic longline fishery on turtles. NMFS reinitiated consultation to consider these factors, and anticipates issuance of a new BO in March 2001. This workshop will allow fishermen, gear experts, sea turtle experts, and fishery managers to discuss possible measures, including gear and fishing method modifications, to reduce the incidental take and mortality of sea turtles in the Atlantic pelagic longline fishery in the future. Information developed at the workshop will be incorporated into a workshop report that will be considered in the ongoing fishery consultation. The report will also be made available to the public.

Special Accommodations

The public workshop is physically accessible to people with disabilities. Requests for sign language interpretation or other auxiliary aids should be directed to Margo Schulze-Haugen or Tyson Kade (see FOR FURTHER INFORMATION CONTACT) at least 7 days prior to the meeting.

Authority: 16 U.S.C. 971 et seq., and 16 U.S.C. 1801 et seq.

Dated: November 14, 2000.
Bruce C. Morehead,
Acting Director, Office of Sustainable Fisheries, National Marine Fisheries Service.

[FR Doc. 00-29780 Filed 11-20-00; 8:45 am]

BILLING CODE: 3510-22-S